DEPARTMENT OF LABOR

Employment and Training Administration

[TA-W-59,635]

Minnesota Rubber, a Quadion Company, Mason City, IA; Notice of Revised Determination of Alternative Trade Adjustment Assistance on Reconsideration

By letter dated August 1, 2006, a duly authorized representative of the State of Iowa requested administrative reconsideration regarding Alternative Trade Adjustment Assistance (ATAA). The certification for Trade Adjustment Assistance (TAA) was signed on July 21, 2006. The Notice of determination will soon be published in the Federal Register.

Workers' eligibility to apply for ATAA was denied based on the Department's finding in the initial investigation that the workers at Minnesota Rubber, A Quadion Company, Mason City, Iowa (subject firm) possess skills that are easily transferable.

New information provided by the Iowa Workforce Development supports the subject firm's statement that the workers separated from the subject firm are having difficulty finding jobs.

More than five percent of the workforce at the subject from is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

“All workers of Minnesota Rubber, A Quadion Company, Mason City, Iowa who became totally or partially separated from employment on or after June 23, 2005 through July 21, 2008, are eligible to apply for adjustment assistance under Section 223 of the Trade Act of 1974, and are also eligible to apply for alternative trade adjustment assistance under Section 246 of the Trade Act of 1974.”

Signed in Washington, DC, this 4th day of August 2006.
Linda G. Poole,
Certifying Officer, Division of Trade Adjustment Assistance.

[FR Doc. E6-13519 Filed 8-15-06; 8:45 am]

BILLING CODE 4510-30-P